EQUAL EMPLOYMENT OPPORTUNITY COMMISSION

SES Performance Review Board

AGENCY: Equal Employment Opportunity Commission.

ACTION: Notice of members of the U.S. Equal Employment Opportunity Commission Performance Review Board (PRB).

SUMMARY: Pursuant to 5 U.S.C. 4314(c)(4), this notice announces the appointment of members of the PRB for the Equal Employment Opportunity Commission (EEOC). The Board reviews the performance appraisals of career and non-career senior executives. The Board makes recommendations regarding proposed performance appraisals, ratings, bonuses and other appropriate personnel actions.

FOR FURTHER INFORMATION CONTACT: Angelica E. Ibarguen, Chief Human Capital Officer, Equal Employment Opportunity Commission, 1801 L Street, NW., Washington, DC 20507, 202-663-4306.

Composition of PRB: The Board shall consist of at least three voting members. When appraising a career appointee's performance or recommending a career appointee for a performance award, more than half of the members must be SES career appointees. The names and titles of the PRB members are as follows:

Primary Members

Angelica E. Ibarguen, Chief Human Capital Officer, EEOC—(Chairperson).

Reuben Daniels, Jr., Director, Charlotte District Office, EEOC—(Member).

James L. Lee, Deputy General Counsel, EEOC—(Member).

Sandra Ziegler, Regional Director, Office of Federal Contract Compliance, U.S. Department of Labor—(Member).

Alternate Member

Lisa Fisher—Acting Director, Office of Communications and Legislative Affairs, EEOC.

DATES: Membership is effective on the date of this notice.

Signed in Washington, DC on this 25th day of November, 2003.
For the Commission.
Cari M. Dominguez,
Chair.

[FR Doc. 03-30661 Filed 12-10-03; 8:45 am]

BILLING CODE 6570-01-M